COMMITTEE FOR PURCHASE FROM PEOPLE WHO ARE BLIND OR SEVERELY DISABLED

Procurement List; Additions and deletions

AGENCY: Committee for Purchase from People Who Are Blind or Severely Disabled.

ACTION: Additions to and Deletions from Procurement List.

SUMMARY: This action adds to the Procurement List a service to be furnished by nonprofit agencies employing persons who are blind or have other severe disabilities, and deletes from the Procurement List products previously furnished by such agencies.

EFFECTIVE DATE: May 27, 2002.

ADDRESS: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION:

Additions

On February 8 and March 1 2002, the Committee for Purchase From People Who Are Blind or Severely Disabled published notice (67 FR 5966 and 9436) of proposed additions and deletions to the Procurement List.

After consideration of the material presented to it concerning capability of qualified nonprofit agencies to provide the service and impact of the additions on the current or most recent contractors, the Committee has determined that the services listed below are suitable for procurement by the federal Government under 41 U.S.C. 46-48c and 41 CFR 51-2.4. I certify that the following action will not have a significant impact on a substantial number of small entities. The major factors considered for this certification were:

1. The action will not result in any additional reporting, recordkeeping or other compliance requirements for small entities other than the small organizations that will furnish the service the Government.

2. The action will not have a severe economic impact on current contractors for the service.

3. The action will result in authorizing small entities to furnish the service to the Government.

4. There are no known regulatory alternatives which would accomplish the objectives of the Javits-Wagner-ODay Act (41 U.S.C.46-48c) in connection with the service proposed for addition to the Procurement List.

Accordingly, the following service is added to the Procurement List:

Service

Service Type/Location: Office Supply Store, Department of the Treasury Annex, Washington, DC.

NPA: Winston-Salem Industries for the Blind, Winston-Salem, NC.

Contract Activity: Department of the Treasury.

Deletions

I certify that the following action will not have a significant impact on a substantial number of small entities. The major factors considered for this certification were:

1. The action will not result in any additional reporting, recordkeeping or other compliance requirements for small entities.

2. The action may result in authorizing small entities to furnish the product to Government.

3. There are no known regulatory alternatives which would accomplish the objectives of the Javits-Wagner-ODay Act (41 U.S.C.46-48c) in connection with the products deleted from the Procurement List.

After consideration of the relevant matter presented, the committee has determined that the products listed below are no longer suitable for procurement by the Federal Government under 41 U.S.C. 46048 and 41 CFR 51-2.4.

Accordingly, the following products are hereby deleted from the Procurement List:

Products

Product/NSN: Applicator, Wax/7920-00-633-8774.

NPA: None Currently Authorized.

Contract Activity: GSA, General Products Commodity Center, Fort Worth, TX.

Product/NSN: Applicator, Wax/7920-00-633-9274.

NPA: None Currently Authorized.

Contract Activity: GSA, General Products Commodity Center, Fort Worth, TX.

Product/NSN: Box, Storage, Magnetic Tape/8115-00-432-6729.

NPA: None Currently Authorized.

Contract Activity: Office Supplies & Paper Products Commodity Center, New York, NY.

Product/NSN: Box, Storage, Magnetic Tape/8115-00-432-6730.

NPA: None Currently Authorized.

Contract Activity: Office Supplies & Paper Products Commodity Center, New York, NY.

Sheryl D. Kennerly,
Director, Information Management.

[FR Doc. 02-10326 Filed 4-25-02; 8:45 am]

BILLING CODE 6353-01-P